DEPARTMENT OF DEFENSE

Office of the Secretary

Availability of the Fiscal Year 2008 Defense Threat Reduction Agency Services Contracts Inventory

AGENCY: Defense Threat Reduction Agency (DTRA), DoD.

ACTION: Notice of availability.

SUMMARY: In accordance with section 2330a of title 10 United States Code as amended by the National Defense Authorization Act for Fiscal Year 2008 (NDAA 08) section 807, the Director of DTRA and the Office of the Director, Defense Procurement and Acquisition Policy, Office of Strategic Sourcing (DPAP/SS) will make available to the public the first inventory of activities performed pursuant to contracts for services.

The inventory will be published to the DTRA Web site at the following location: http://www.dtra.mil/Business/DoingBusiness/CurrentSolicitations.aspx.

DATES: Inventory to be made publically available within 60 days after publication of this notice.

ADDRESSES: Send written comments and suggestions concerning this inventory to David Braxton, Senior Procurement Analyst, Defense Threat Reduction Agency/BC-BCP, 8725 John J. Kingman Road, MSC 6201, Fort Belvoir, VA 22060-6201.

FOR FURTHER INFORMATION CONTACT: David Braxton at (703) 767-4603 or e-mail at David.Braxton@Dtra.Mil.

Dated: April 14, 2010.
Mitchell S. Bryman,
Alternate OSD Federal Register Liaison Officer, Department of Defense.

[FR Doc. 2010-8999 Filed 4-19-10; 8:45 am]

BILLING CODE 5001-06-P